DEPARTMENT OF TRANSPORTATION

Federal Highway Administration

Environmental Impact Statement: Butler County, OH

AGENCY: Federal Highway Administration (FHWA), DOT.

ACTION: Rescind Notice of Intent.

SUMMARY: The FHWA is issuing this notice to advise the public that the Notice of Intent published on October 6, 2000 to prepare an Environmental Impact Statement (EIS) for a proposed transportation project in Butler County, Ohio is being rescinded.

FOR FURTHER INFORMATION CONTACT: Mr. Dennis A. Decker, Division Administrator, Federal Highway Administration, 200 North High Street, Suite 328, Columbus, Ohio 43215, Telephone (614) 280-6896.

SUPPLEMENTARY INFORMATION: The FHWA is rescinding the notice of intent to prepare an EIS on a proposal to construct a highway improvement in the vicinity of Trenton, Ohio. The project termini are approximately US-127, north of the Village of Seven Mile, and the SR-63/SR-4 interchange. The project is being rescinded because the Ohio Department of Transportation has decided not to pursue this project at this time.

(Catalog of Federal Domestic Assistance Program Number 20.205, Highway Planning and Construction. The regulations implementing Executive Order 12372 regarding intergovernmental consultation on Federal programs and activities apply to this program.)

Issued on: June 23, 2008.
Dennis A. Decker,
Division Administrator, Federal Highway Administration, Columbus, Ohio.

[FR Doc. E8-14665 Filed 6-27-08; 8:45 am]

BILLING CODE 4910-22-P